ENVIRONMENTAL PROTECTION AGENCY

40 CFR Parts 60 and 63

[EPA-HQ-OAR-2009-0234; EPA-HQ-OAR-2011-0044, FRL-9427-4]

RIN 2060-AP52

Proposed National Emission Standards for Hazardous Air Pollutants From Coal- and Oil-Fired Electric Utility Steam Generating Units and Standards of Performance for Fossil-Fuel-Fired Electric Utility, Industrial-Commercial-Institutional, and Small Industrial-Commercial-Institutional Steam Generating Units; Extension of Comment Period

AGENCY: Environmental Protection Agency (EPA).

ACTION: Proposed rule; extension of public comment period.

SUMMARY: The EPA is announcing that the period for providing public comments on the May 3, 2011, Proposed National Emission Standards for Hazardous Air Pollutants from Coal- and Oil-fired Electric Utility Steam Generating Units and Standards of Performance for Fossil-Fuel-Fired Electric Utility, Industrial-Commercial-Institutional, and Small Industrial-Commercial-Institutional Steam Generating Units is being extended for 30 days.

DATES: Comments. The public comment period for the proposed rule published May 3, 2011 (76 FR 24976) is being extended for 30 days to August 4, 2011, in order to provide the public additional time to submit comments and supporting information.

ADDRESSES: Comments. Written comments on the proposed rule may be submitted to EPA electronically, by mail, by facsimile, or through hand delivery/courier. Please refer to the proposal for the addresses and detailed instructions.

Docket. Publicly available documents relevant to this action are available for public inspection either electronically in http://www.regulations.gov or in hard copy at the EPA Docket Center, Room 3334, 1301 Constitution Avenue, NW., Washington, DC. The Public Reading Room is open from 8:30 a.m. to 4:30 p.m., Monday through Friday, excluding legal holidays. A reasonable fee may be charged for copying.

Worldwide Web. The EPA Web sites for this rulemaking are are at: http://www.epa.gov/airquality/powerplanttoxics/actions.html or http://www.epa.gov/ttn/atw/utility/utilitypg.html.

FOR FURTHER INFORMATION CONTACT: For the national emission standards for hazardous air pollutants (NESHAP) action: Mr. William Maxwell, Energy Strategies Group, Sector Policies and Programs Division, (D243-01), Office of Air Quality Planning and Standards, U.S. Environmental Protection Agency, Research Triangle Park, North Carolina 27711; Telephone number: (919) 541-5430; Fax number (919) 541-5450; E-mail address: maxwell.bill@epa.gov. For the new source performance standard (NSPS) action: Mr. Christian Fellner, Energy Strategies Group, Sector Policies and Programs Division, (D243-01), Office of Air Quality Planning and Standards, U.S. Environmental Protection Agency, Research Triangle Park, North Carolina 27711; Telephone number: (919) 541-4003; Fax number (919) 541-5450; E-mail address: fellner.christian@epa.gov.

SUPPLEMENTARY INFORMATION:

Comment Period

Due to requests we have received from both the public and members of Congress to extend the public comment period for the May 3, 2011, Proposed Mercury and Air Toxics Standards Rule, the EPA is extending the public comment period for an additional 30 days. Therefore, the public comment period will end on August 4, 2011, rather than July 5, 2011.

How can I get copies of this document and other related information?

The EPA has established the official public dockets No. EPA-HQ-OAR-2011-0044 (NSPS action) or No. EPA-HQ-OAR-2009-0234 (NESHAP action). The EPA has also developed websites for these proposed rulemakings at the addresses given above.

Dated: June 24, 2011.
Gina McCarthy,
Assistant Administrator for Air and Radiation.

[FR Doc. 2011-16493 Filed 6-30-11; 8:45 am]

BILLING CODE 6560-50-P